GENERAL SERVICES ADMINISTRATION

Federal Travel Regulation (FTR); Notice of GSA Bulletin FTR 09-02

AGENCY: Office of Governmentwide Policy, General Services Administration (GSA).

ACTION: Notice of a bulletin.

SUMMARY: This Bulletin informs agencies what baggage and seat choice fees they may reimburse their employees while on official travel. GSA Bulletin FTR 09-02 may be found at http://www.gsa.gov/bulletin.

DATES: The bulletin announced in this notice became effective on December 31, 2008, and will remain effective until the FTR is amended to reflect the changes.

FOR FURTHER INFORMATION CONTACT: For clarification of content, please contact Mr. Cy Greenidge, Office of Governmentwide Policy, Office of Travel, Transportation and Asset Management, at (202) 219-2349.

Please cite FTR Bulletin 09-02.

SUPPLEMENTARY INFORMATION:

A. Background

Section 301-10.122 of the Federal Travel Regulation (FTR) (41 CFR 301-10.122) stipulates that Federal employees, with few exceptions, must use coach-class accommodations. As a result of many airlines now charging additional fees for checked baggage, as well as for seat choice in the coach-class cabin, this bulletin was developed to clarify which of these fees may be reimbursed by Federal agencies.

B. Procedures

Bulletins regarding the Federal Travel Regulation are located on the Internet at http://www.gsa.gov/bulletin as Federal Travel Regulation bulletins.

Dated: January 5, 2009.
Russell H. Pentz,
Assistant Deputy Associate Administrator, Office of Travel, Transportation, and Asset Management.

[FR Doc. E9-434 Filed 1-12-09; 8:45 am]

BILLING CODE 6820-14-P